DEPARTMENT OF AGRICULTURE

Forest Service

Wrangell-Petersburg Resource Advisory Committee

AGENCY: Forest Service, USDA.

ACTION: Notice of meeting.

SUMMARY: The Wrangell-Petersburg Resource Advisory Committee (RAC) will meet from 1 p.m. until 5 p.m. on Friday, July 22, and from 8 a.m. until 12 noon, Saturday, July 23, 2005, in Petersburg, Alaska. The purpose of this meeting is to train new RAC appointees and update continuing members on information pursuant to Title II, Public Law 106-393, H.R. 2389, the Secure Rural Schools and Community Self-Determination Act of 2000, also called the “Payments to States” Act. This meeting is open to the public.

DATES: The meeting will be held commencing at 1 p.m. on Friday, July 22, through 12 noon, Saturday, July 23, 2005.

ADDRESSES: The meeting will be held at the Petersburg Lutheran Church Holy Cross House, 407 Fram Street, Petersburg, Alaska.

FOR FURTHER INFORMATION CONTACT: Bill Messmer, Acting Wrangell District Ranger, P.O. Box 51, Wrangell, AK 99929, phone (907) 874-2323, e-mail bmessmer@fs.fed.us, or Patty Grantham, Petersburg District Ranger, P.O. Box 1328, Petersburg, AK 99833, phone (907) 772-3871, e-mail pagrantham@fs.fed.us. For further information on RAC history, operations, and the application process, a Web site is available at http://www.fs.fed.us/r10/ro/payments. Once in the Web site, follow the links to the Wrangell-Petersburg Resource Advisory Committee.

SUPPLEMENTARY INFORMATION: This meeting will focus on training newly appointed RAC members and updating continuing members on relevant legislative, regulatory and policy direction in implementing their responsibilities pursuant to Payments to States legislation (Pub. L. 106-393), particularly on direction contained in Title II of the Act. The history of the Wrangell-Petersburg RAC will also be presented, emphasizing proposed, recommended and approved projects from the past several years. Miscellaneous administrative actions (e.g., election of committee chairperson) are will also be taken at this meeting.

Dated: May 2, 2005.
Forrest Cole,
Forest Supervisor.

[FR Doc. 05-11465 Filed 6-8-05; 8:45 am]

BILLING CODE 3410-11-M